FEDERAL COMMUNICATIONS COMMISSION

47 CFR Part 54

[WC Docket No. 10-90, WT Docket No. 10-208; DA 17-1218]

Mobility Fund Phase II Challenge Process Handsets and Access Procedures for the Challenge Process Portal

AGENCY: Federal Communications Commission.

ACTION: Final rule; requirements and procedures.

SUMMARY: In this document, the Rural Broadband Auctions Task Force, with the Wireline Competition Bureau and the Wireless Telecommunications Bureau, provide further guidance on the handsets that mobile wireless providers in the Mobility Fund Phase II challenge process can designate for challengers to use when conducting speed tests in areas deemed presumptively ineligible for MF-II support. This document adopts procedures for challengers to request access to the Universal Service Administrative Company challenge process portal.

DATES: Parties may submit the list of provider-approved handsets as part of their 4G LTE coverage data filings due by January 4, 2018, or they may elect to supplement those filings with the handset list by no later than thirty days following the publication of this document in the Federal Register.

ADDRESSES: Submit responses to the MF-II 4G LTE data collections, including the list of provider-approved handsets, at www.fcc.gov/MF2-LTE-Collection. Submit waivers by email to mf2challengeprocess@fcc.gov or by hard copy to Margaret W. Wiener, Chief, Auctions and Spectrum Access Division, Wireless Telecommunications Bureau, FCC, 445 12th Street SW, Room 6-C217, Washington, DC 20554.

FOR FURTHER INFORMATION CONTACT: Wireless Telecommunications Bureau, Auction and Spectrum Access Division, Jonathan McCormack, at (202) 418-0660.

SUPPLEMENTARY INFORMATION: This is a summary of the Public Notice (MF-II Challenge Process Handset Public Notice), WC Docket No. 10-90, WT Docket No. 10-208, DA 17-1218, adopted on December 20, 2017, and released on December 20, 2017. The complete text of the MF-II Challenge Process Handset Public Notice is available for public inspection and copying from 8:00 a.m. to 4:30 p.m. Eastern Time (ET) Monday through Thursday or from 8:00 a.m. to 11:30 a.m. ET on Fridays in the FCC Reference Information Center, 445 12th Street SW, Room CY-A257, Washington, DC 20554. The complete text is also available on the Commission's website at https://ecfsapi.fcc.gov/file/122011224060/DA-17-1218A1.pdf. Alternative formats are available to persons with disabilities by sending an email to FCC504@fcc.gov or by calling the Consumer & Governmental Affairs Bureau at (202) 418-0530 (voice), (202) 418-0432 (TTY).

1. The Rural Broadband Auctions Task Force (Task Force), in conjunction with the Wireline Competition Bureau and the Wireless Telecommunications Bureau (Bureaus), provides further requirements for the handsets that mobile wireless providers in the Mobility Fund Phase II (MF-II) challenge process must designate for challengers to use when conducting speed tests in areas deemed presumptively ineligible for MF-II support. In addition, the Bureaus adopt procedures for challengers to request access to the Universal Service Administrative Company (USAC) challenge process portal.

I. Handset Requirements

2. Under the MF-II Challenge Process Order, 82 FR 42473, September 8, 2017, the MF-II challenge process will begin with a new, one-time collection of current, standardized coverage data on qualified 4G LTE service, which the Commission will use to establish the map of areas presumptively eligible for MF-II support.

3. As part of the new, one-time data collection, each mobile wireless provider with qualified 4G LTE coverage is required to identify at least three readily-available handset models appropriate for testing its coverage, at least one of which must be compatible with industry-standard drive test software. The Commission also directed the Bureaus to propose and adopt further guidance on the types of devices that may be used for speed tests.

4. After release of the MF-II Challenge Process Order, the Task Force, in conjunction with the Bureaus, released instructions for submitting the new 4G LTE coverage data, including the handset list, and announced a deadline of January 4, 2018, to submit the required coverage information. Pursuant to the Commission's direction, the Bureaus subsequently sought comment on proposed requirements to ensure that at least one designated handset is compatible with industry-standard drive test software.

5. After consideration of these comments, the Bureaus provide further requirements for the types of devices that may be used for speed tests. First, each provider must identify in its filing at least one device that is either: (a) Officially supported by the latest versions of industry-standard drive test software, such as JDSU, ZK-SAM, Rohde & Schwartz, or TEMS; or (b) engineering-capable and able to be unlocked and put into diagnostic mode to interface with drive test software. Second, at least one of the three specified devices must run the Android operating system. This device can be the same device as the one that meets the requirements adopted for compatibility with drive-test software, but it need not be. Because the coverage data submitted by affiliated entities will be consolidated when made available to challengers through the USAC portal, the Bureaus will consolidate the submitted provider handset data for such entities to the extent that the lists of handsets differ.

6. Parties may file the foregoing handset information with their January 4, 2018 filings, or they may elect to supplement those filings with that handset information no later than thirty days following the publication of the MF-II Challenge Process Handset Public Notice in the Federal Register.

II. Accessing the USAC Portal

7. Participants in the MF-II challenge process must use the USAC portal to file a challenge and/or respond to a challenge, as well as to access certain information that is pertinent to a challenge. The Commission directed the Bureaus to detail the process by which an interested party may request a USAC account to access the portal.

8. The process for interested parties and challenged providers to request access to the USAC portal is as follows. Any eligible service provider wishing to participate in the challenge process must provide to the Commission, via web-based form, the legal name of the entity, its FCC Registration Number (FRN), and the name(s) and email address(es) of the user(s) (up to a maximum of three users) that should be granted access to the portal. Any government entity (i.e., a local, state, or Tribal government entity) that wishes to participate in the challenge process also must provide the legal name of the entity, its legal jurisdiction, and the name(s) and email address(es) of the user(s) (up to a maximum of three users) that should be granted access to the portal. The web page address and date by which to submit this contact information will be announced at a later date.

9. The Bureaus encourage parties that may have an interest in participating in the challenge process to provide this contact information as soon as the form is available. Providing this contact information does not represent a commitment or obligation to participate in the challenge process.

10. For a party that files a waiver petition with the Commission seeking to participate in the MF-II challenge process as a challenger (because it is not a service provider or a government entity), the Bureaus require such a party to submit the first and last name of the user(s) that should have access to the portal on its behalf, and the email address(es) of the user(s), up to a maximum of three users, as part of its petition for waiver. Any waiver petition must be submitted to mf2challengeprocess@fcc.gov. The Bureaus strongly encourage any interested party to file a waiver petition as soon as practicable.

III. Procedural Matters

A. Paperwork Reduction Act Analysis

11. The MF-II Challenge Process Handset Public Notice implements the information collection requirements adopted in the MF-II Challenge Process Order and does not contain any new or modified information collection requirements subject to the Paperwork Reduction Act of 1995 (PRA), Public Law 104-13, 44 U.S.C. 3501-3520. The Commission sought and received PRA approval from the Office of Management and Budget (OMB) under its emergency processing procedures for the information collection requirements associated with the qualified 4G LTE coverage data collection, as adopted in the MF-II Challenge Process Order and further explained in the MF-II Challenge Process Handset Public Notice. The OMB control number for this collection is OMB 3060 1242. The Commission is currently seeking PRA approval for the information collection requirements related to the challenge process itself, as adopted in the MF-II Challenge Process Order and further explained in the MF-II Challenge Process Handset Public Notice. The MF-II Challenge Process Handset Public Notice does not adopt any additional information collection requirements beyond those adopted in the MF-II Challenge Process Order.

B. Supplemental Final Regulatory Flexibility Analysis

12. As required by the Regulatory Flexibility Act of 1980, as amended (RFA), the Commission prepared Initial Regulatory Flexibility Analyses (IRFAs) in connection with the USF/ICC Transformation FNPRM, 76 FR 78383, December 16, 2011, the 2014 CAF FNPRM, 80 FR 4445, January 27, 2015, and the MF-II FNPRM, 82 FR 13413, March 13, 2017 (collectively, MF-II FNPRMs). A Supplemental Initial Regulatory Flexibility Analysis (SIRFA) was also filed in the MF-II Challenge Process Comment Public Notice, 82 FR 51180, November 3, 2017, in this proceeding. The Commission sought written public comment on the proposals in MF-II FNPRMs and in the MF-II Challenge Process Comment Public Notice, including comments on the IRFAs and SIRFA. The Commission received three comments in response to the MF-II FNPRM IRFA. No comments were filed addressing the USF/ICC Transformation FNPRM IRFA, the 2014 CAF FNPRM IRFA, or the MF-II Challenge Process Comment Public Notice SIRFA. The Commission included Final Regulatory Flexibility Analyses (FRFAs) in connection with the 2014 CAF Order, the MF-II Order, and the MF-II Challenge Process Order (collectively, the MF-II Orders). This Supplemental Final Regulatory Flexibility Analysis (SFRFA) supplements the FRFAs in the MF-II Orders to reflect the actions taken in the MF-II Challenge Process Handset Public Notice and conforms to the RFA.

1. Need for, and Objectives of, The MF-II Challenge Process Handset Public Notice

13. The MF-II Challenge Process Handset Public Notice provides further requirements on the handsets that mobile wireless providers in the MF-II challenge process must designate for challengers to use when conducting speed tests in areas deemed presumptively ineligible for MF-II support. In addition, the MF-II Challenge Process Handset Public Notice adopts procedures for challengers to request access to the USAC challenge process portal.

14. Following the release of the MF-II Orders, the Commission released the MF-II Challenge Process Comment Public Notice. The MF-II Challenge Process Comment Public Notice proposed and sought comment on specific parameters and procedures to implement the MF-II challenge process, including requirements for the provider-approved handsets that prospective challengers will use to conduct speed tests, and the process by which challengers and respondents can request access to the USAC portal. The MF-II Challenge Process Comment Public Notice did not change matters adopted in the MF-II Orders and requested comment on how the proposals in the MF-II Challenge Process Comment Public Notice might affect the previous regulatory flexibility analyses in this proceeding.

15. The MF-II Challenge Process Handset Public Notice establishes procedures for providers to identify at least three readily available handset models appropriate for testing those providers' coverage, and establishes that the Bureaus will consolidate submitted provider handset data for affiliated entities to the extent that the lists of handsets differ. In addition, providers are required to specify at least one handset running on the Android operating system, and at least one handset that is either compatible with the latest versions of drive test software, or is capable of being unlocked and configured to run the latest versions of drive test software.

16. The procedures also require all eligible service providers wishing to participate in the challenge process to provide to the Commission the legal name of the entity, its FRN, and the name(s) and email address(es) of the user(s) (up to a maximum of three users) that should be granted access to the portal. Any government entity (i.e., a local, state, or Tribal government entity) that wishes to participate in the challenge process also must provide the legal name of the entity, its legal jurisdiction, and the name(s) and email address(es) of the user(s) (up to a maximum of three users) that should be granted access to the portal. A web-based form will be used to collect this information. A party that files a waiver petition with the Commission seeking to participate in the MF-II challenge process as a challenger (because it is not a service provider or a government entity), must submit the first and last name of the user(s) that should have access to the portal on its behalf, and the email address(es) of the user(s), up to a maximum of three users, as part of its petition for waiver.

17. Finally, the requirements established in the MF-II Challenge Process Handset Public Notice are designed to anticipate the challenges faced by small entities (e.g., governmental entities or small service providers) in complying with the Bureaus' implementation of the Commission's rules and our proposals. For example, the requirement that providers specify a minimum of three devices, at least one of which must be running on the Android operating system, is intended to provide small entities with sufficient flexibility to choose a device that fits their needs and budgets.

18. Accordingly, the handset requirements and portal access procedures established in the MF-II Challenge Process Handset Public Notice are consistent with the MF-II Orders and the prior regulatory flexibility analyses set forth in this proceeding, and no changes to the Bureaus' earlier analyses are required.

2. Summary of Significant Issues Raised by Public Comments in Response to the SIRFA

19. There were no comments filed that specifically addressed the proposed procedures presented in the SIRFA.

3. Response to Comments by the Chief Counsel for Advocacy of the Small Business Administration

20. Pursuant to the Small Business Jobs Act of 2010, which amended the RFA, the Commission is required to respond to any comments filed by the Chief Counsel for Advocacy of the Small Business Administration (SBA), and to provide a detailed statement of any change made to the proposed rule(s) as a result of those comments.

21. The Chief Counsel did not file any comments in response to the proposed procedures in this proceeding.

4. Description and Estimate of the Number of Small Business Entities To Which the Procedures Will Apply

22. The RFA directs agencies to provide a description of and, where feasible, an estimate of the number of small entities that may be affected by the proposed rules, if adopted herein. The RFA generally defines the term “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the SBA.

23. As noted above, FRFAs were incorporated into the MF-II Orders. In those analyses, the Bureaus described in detail the small entities that might be significantly affected. In the MF-II Challenge Process Handset Public Notice, the Bureaus incorporate by reference the descriptions and estimates of the number of small entities from the previous FRFAs in the MF-II Orders.

5. Description of Projected Reporting, Recordkeeping, and Other Compliance Requirements for Small Entities

24. The data, information and document collection required by the MF-II Orders as described in the previous FRFAs and the SIRFA in the MF-II Challenge Process Comment Public Notice in this proceeding are hereby incorporated by reference.

6. Steps Taken To Minimize the Significant Economic Impact on Small Entities, and Significant Alternatives Considered

25. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) and exemption from coverage of the rule, or any part thereof, for small entities.

26. The analysis of the Commission's efforts to minimize the possible significant economic impact on small entities as described in the previous MF-II Order FRFAs are hereby incorporated by reference. As discussed above, the requirements and procedures established in the MF-II Challenge Process Handset Public Notice are intended to provide small entities with sufficient flexibility to choose a device that fits their needs and budgets thereby minimizing significant economic impact on small entities.

7. Report to Congress

27. The Commission will send a copy of the MF-II Challenge Process Handset Public Notice, including this SFRFA, in a report to Congress pursuant to the Congressional Review Act. In addition, the Commission will send a copy of the MF-II Challenge Process Handset Public Notice, including this SFRFA, to the Chief Counsel for Advocacy of the SBA. A copy of the MF-II Challenge Process Handset Public Notice, and SFRFA (or summaries thereof) will also be published in the Federal Register.

IV. Contact Information

28. For information on the one-time 4G LTE coverage data collection, see 4G LTE Collection Instructions Public Notice, or consult the Commission's MF-II 4G LTE Data Collection web page at www.fcc.gov/MF2-LTE-Collection. Please note that responses to the MF-II 4G LTE data collection are due by January 4, 2018. Parties with questions about the collection should email ltedata@fcc.gov or contact Ken Lynch at (202) 418-7356 or Ben Freeman at (202) 418-0628.

29. For further information concerning the MF-II Challenge Process Comment Public Notice, contact Jonathan McCormack, Auctions and Spectrum Access Division, Wireless Telecommunications Bureau, at (202) 418-0660.

Federal Communications Commission.
William W. Huber,
Associate Chief, Auctions and Spectrum Access Division, WTB.

[FR Doc. 2017-28421 Filed 1-2-18; 8:45 am]

BILLING CODE 6712-01-P